DEPARTMENT OF JUSTICE

Notice of Lodging of Consent Decree Under the Comprehensive Environmental Response, Compensation and Liability Act

In accordance with Department of Justice policy, notice is hereby given that on July 30, 2007, a proposed consent decree (“Consent Decree”) in United States v. ArvinMeritor, Inc., Civil Action No. 1:07-cv-00735-GJQ, was lodged with the United States District Court for the Western District of Michigan.

The Consent Decree would resolve claims against the sole defendant—ArvinMeritor, Inc.—for (i) Unreimbursed past response costs incurred by the United States related to removal and remedial actions at the Rockwell International Superfund Site (“Site”) in Allegan, Michigan in exchange for a payment of $3,475,000. The Consent Decree would also require ArvinMeritor to pay the United States' future response costs related to the Site.

The Department of Justice will receive for a period of thirty (30) days from the date of this publication comments relating to the Consent Decree. Comments should be addressed to the Assistant Attorney General, Environment and Natural Resources Division, and either e-mailed to pubcomment-ees.enrd@usdoj.gov or mailed to P.O. Box No. 7611, Washington, DC 20044-7611, and should refer to United States v. ArvinMeritor, Inc., Civil Action No. 1:07-cv-00735-GJQ, D.J. Ref. 90-11-3-08013.

The Consent Decree may be examined at the Office of the United States Attorney for the Western District of Michigan, 330 Ionia Avenue, NW., Suite 501, Grand Rapids, Michigan 49503, and at U.S. EPA Region 5, 77 W. Jackson Blvd., Chicago, Illinois 60604-4590. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $6 (24 pages at 25 cents per page reproduction cost) payable to the U.S. Treasury.

William D. Brighton,
Assistant Chief, Environmental Enforcement Section, Environment and Natural Resources Division.

[FR Doc. 07-3997 Filed 8-14-07; 8:45 am]

BILLING CODE 4410-15-M